NUCLEAR REGULATORY COMMISSION

[Docket No. 72-10; NRC-2020-0169]

Prairie Island Independent Spent Fuel Storage Installation

AGENCY: Nuclear Regulatory Commission.

ACTION: Environmental assessment and finding of no significant impact; issuance.

SUMMARY: The U.S. Nuclear Regulatory Commission (NRC) is considering the amendment of Special Nuclear Materials (SNM) License SNM-2506 for the Prairie Island Nuclear Generating Plant Independent Spent Fuel Storage Installation (PI ISFSI) located in Goodhue County, Minnesota. The NRC has prepared an environmental assessment (EA) for this proposed license amendment in accordance with its regulations. Based on the EA, the NRC has concluded that a finding of no significant impact (FONSI) is appropriate. The NRC also is conducting a safety evaluation of the proposed license renewal.

DATES: The EA and FONSI referenced in this document are available on October 8, 2020.

ADDRESSES: Please refer to Docket ID NRC-2020-0169 when contacting the NRC about the availability of information regarding this document. You may obtain publicly available information related to this document using any of the following methods:

• Federal Rulemaking Website: Go to https://www.regulations.gov/ and search for Docket ID NRC-2020-0169. Address questions about Docket IDs to Jennifer Borges; telephone: 301-287-9127, or by email to Jennifer.Borges@nrc.gov. For technical questions, contact the individual listed in the FOR FURTHER INFORMATION CONTACT SECTION of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced in this document (if that document is available in ADAMS) is provided the first time that a document is referenced.

FOR FURTHER INFORMATION CONTACT: Jean Trefethen, Office of Nuclear Material Safety and Safeguards, U.S. Nuclear Regulatory Commission, Washington, DC 20555-0001; telephone: 301-415-0867, or by email to: Jean.Trefethen@nrc.gov.

SUPPLEMENTARY INFORMATION:

I. Introduction

The NRC is considering a license amendment request (LAR) for license SNM-2506 for the PI specifically licensed ISFSI located in Goodhue County, Minnesota (ADAMS Accession No. ML19217A312). The licensee, Northern States Power Company, a Minnesota corporation (NSPM), is requesting to increase the amount of spent fuel stored at the PI ISFSI by adding Transnuclear, Inc. (TN) TN-40/TN-40HT storage casks, adding a new storage pad within the existing ISFSI footprint. If approved, NSPM would be able to increase the maximum amount of spent fuel allowed under renewed license SNM-2506 for the PI ISFSI to 1,049.60 tons of equivalent uranium of spent fuel assemblies, an equivalent capacity of 64 TN-40HT casks.

The NRC staff has prepared a final EA as part of its review of this license renewal request in accordance with the requirements of part 51 of title 10 of the Code of Federal Regulations (10 CFR), “Environmental Protection Regulations for Domestic Licensing and Related Regulatory Functions.” Based on the final EA, the NRC has determined that an environmental impact statement (EIS) is not required for this proposed action and a FONSI is appropriate. The NRC is also conducting a safety evaluation of the proposed license amendment pursuant to 10 CFR part 72, and the results will be documented in a separate Safety Evaluation Report (SER). If NSPM's request is approved, the NRC will issue the license amendment following publication of this final EA and FONSI and the SER in the Federal Register.

II. Final Environmental Assessment Summary

NSPM is requesting to amend license SNM-2506 for the PI specifically licensed ISFSI to increase the amount of spent fuel allowed. The NRC has assessed the potential environmental impacts of the proposed action and alternatives to the proposed action, shipment of spent fuel to an offsite facility, and the no-action alternative. The results of the NRC's environmental review can be found in the final EA (ADAMS Accession No. ML20275A342). The NRC staff performed its environmental review in accordance with the requirements in 10 CFR part 51. In conducting the environmental review, the NRC considered information in the LAR to expand the ISFSI (ADAMS Accession No. ML19217A313); communications and consultation with the Minnesota State Historic Preservation Office (SHPO); as well as information provided by the Prairie Island Indian Community (PIIC) and 26 additional Native American Tribes; the Minnesota-Wisconsin Ecological Services Field Office of Fish and Wildlife; the Minnesota State Department of Health; the Minnesota Environmental Quality Board, the Minnesota Department of Commerce, the Minnesota Pollution Control Agency, the Minnesota Department of Natural Resources, and the Environmental Protection Agency Region 5.

Approval of NSPM's proposed LAR would allow NSPM to increase the amount of spent fuel stored at the PI ISFSI, allowing up to 64 storage casks and adding a new storage pad within the existing ISFSI footprint. The estimated annual dose to the nearest permanent resident from ISFSI activities is 0.0434 mSv/yr (4.34 mrem/yr) (ADAMS Accession No. ML19217A313), which is below the 0.25 mSv/yr (25 mrem/yr) limit specified in 10 CFR 72.104(a) and the 1 mSv/yr (100 mrem/yr) limit specified in 10 CFR 20.1301(a)(1). Furthermore, NSPM maintains a radiation protection program for the ISFSI in accordance with 10 CFR part 20 to ensure that radiation doses are as low as is reasonably achievable (ALARA). Accordingly, no significant radiological or non-radiological impacts are expected to result from approval of the ISFSI expansion request, and the proposed action would not significantly contribute to cumulative impacts at the PI site. Additionally, there would be no disproportionately high and adverse impacts on minority and low-income populations.

In its LAR, NSPM is proposing no changes in how it handles, and stores spent fuel at the PI ISFSI. In its LAR, NSPM commits to following their Cultural Resource Management Plan during all ground-disturbing expansion activities. Approval of the proposed action is not expected to result in new construction or expansion beyond the existing ISFSI footprint. The ISFSI is a largely passive facility that produces no liquid or gaseous effluents. No significant radiological or non-radiological impacts are expected from the expansion or continued normal operations. Occupational dose estimates associated with the expansion and continued normal operation and maintenance of the ISFSI are expected to be at ALARA levels and within the limits of 10 CFR 20.1201. Therefore, the NRC staff has determined that pursuant to 10 CFR 51.31, preparation of an EIS is not required for the proposed action, and pursuant to 10 CFR 51.32, a FONSI is appropriate.

Furthermore, the NRC staff determined that this LAR does not have the potential to cause effects on historic properties, assuming those were present; therefore, in accordance with 36 CFR 800.3(a)(1), no consultation is required under Section 106 of the National Historic Preservation Act.” The NRC staff consulted with the Minnesota SHPO via letter dated December 17, 2019, (ADAMS Package Accession No. ML19311C631) and May 28, 2020 (ADAMS Package Accession No. ML20140A115). The Minnesota SHPO responded via letter dated August 10, 2020, indicating they concurred on the finding of no effect (ADAMS Accession No. ML20223A064). Additionally, the NRC staff contacted the PIIC and 26 additional Native American Tribes and provided its determination via letters dated December 19, 2019 (ADAMS Package Accession No. ML19312A048). The PIIC responded on January 17, 2020 (ADAMS Accession No. ML20066G473), and the Shakopee Mdewakanton Sioux Community responded via letter dated January 28, 2020 (ADAMS Accession No. ML20035D132); both indicated that they concurred with the determination of no effect. The NRC staff, with the assistance of the U.S. Fish and Wildlife Service Information for Planning and Consultation project planning tool, determined that the listed species and/or critical habitat will not be adversely affected by the proposed action.

III. Finding of No Significant Impact

Based on its review of the proposed action in the EA, in accordance with the requirements in 10 CFR part 51, the NRC has concluded that the proposed action, amendment of NRC license SNM-2506 for the PI ISFSI located in Goodhue County, Minnesota, will not significantly affect the quality of the human environment. Therefore, the NRC has determined, pursuant to 10 CFR 51.31, that preparation of an EIS is not required for the proposed action and a FONSI is appropriate.

Dated: October 5, 2020.
For the Nuclear Regulatory Commission.
Jessie M. Quintero,
Acting Chief, Environmental Review Materials Branch, Division of Rulemaking, Environment, and Financial Support, Office of Nuclear Material Safety and Safeguards.

[FR Doc. 2020-22350 Filed 10-7-20; 8:45 am]

BILLING CODE 7590-01-P